DEPARTMENT OF STATE

[Public Notice 3538]

Department of State Performance Review Board Members (At-Large Board)

In accordance with Section 4314(c)(4) of the Civil Service Reform Act of 1978 (Pub. L. 95-454), the Executive Resources Board of the Department of State has appointed the following individuals to the Department of State Performance Review Board (At-Large Board) register:

Samuel M. Witten, Assistant Legal Advisor for Law Enforcement and Intelligence, Office of the Legal Advisor, Department of State

Patrick R. Hayes, Executive Director, Bureau of Western Hemisphere Affairs, Department of State

LeRoy Lowery, III, Senior Inspector, Office of the Inspector General, Department of State

Frank E. Moss, Executive Director, Bureau of Consular Affairs, Department of State

Brenda Saunders Sprague, Director, Office of Language Services, Bureau of Administration, Department of State

Christopher Flaggs, Director, Domestic Financial Service, Bureau of Finance and Management Policy, Department of State

Dated: August 14, 2001.
Alex De La Garza,
Deputy Assistant Secretary, Bureau of Human Resources, Department of State.

[FR Doc. 01-21798 Filed 8-28-01; 8:45 am]

BILLING CODE 4710-15-P